DEPARTMENT OF ENERGY

Federal Energy Regulatory Commission

[Project No. 4202-025]

KEI (Maine) Power Management (II) LLC; Notice Soliciting Scoping Comments

Take notice that the following hydroelectric application has been filed with the Commission and is available for public inspection.

a. Type of Application: Subsequent Minor License.

b. Project No.: 4202-025.

c. Date Filed: September 28, 2021.

d. Applicant: KEI (Maine) Power Management (II), LLC (KEI Power).

e. Name of Project: Lowell Tannery Project (project).

f. Location: On the Passadumkeag River in Penobscot County, Maine. The project does not occupy any federal land.

g. Filed Pursuant to: Federal Power Act, 16 U.S.C. 791(a)-825(r).

h. Applicant Contact: Mr. Lewis C. Loon, KEI (Maine) Power Management (II), LLC c/o KEI (USA) Power Management Inc., 423 Brunswick Avenue, Gardiner, ME 04345; Phone at (207) 203-3025, or email at LewisC.Loon@kruger.com.

i. FERC Contact: Arash Barsari at (202) 502-6207, or arash.jalalibarsari@ferc.gov.

j. Deadline for filing scoping comments: February 26, 2022.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Lowell Tannery Project (P-4202-025).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application is not ready for environmental analysis at this time.

l. The existing project consists of: (1) A 230-foot-long, 21.5-foot-high concrete gravity dam that includes the following sections: (a) A left abutment section; (b) a 30-foot-long primary spillway with 42-inch-high flashboards and a crest elevation of 187.5 feet mean sea level (msl) at the top of the flashboards; (c) a 30.2-foot-long section with a seven-foot-wide log sluice and a ten-foot-wide tainter gate; (d) an 89-foot-long auxiliary spillway with 42-inch-high flashboards and a crest elevation of 187.5 feet msl at the top of the flashboards; (e) a 22.2-foot-long intake structure with two 15.5-foot-wide, 15.8-foot-high, angled trashracks with 1.5-inch clear bar spacing; and (f) a right abutment section; (2) an impoundment with a surface area of approximately 341 acres at an elevation of 187.5 feet msl; (3) a 69.4-foot-long, 26.7-foot-wide concrete powerhouse containing a 1,000-kilowatt vertical Kaplan turbine-generator unit; (4) a tailrace channel that discharges into the Passadumkeag River; (5) a 2.3/12.5-kilovolt (kV) step-up transformer and a 200-foot-long, 12.5-kV transmission line that connects the generator to the local utility distribution system; and (6) appurtenant facilities. The project creates an approximately 70-foot-long bypassed reach of the Passadumkeag River.

As required by Article 19 of the current license, KEI Power operates the project as a run-of-river (ROR) facility. Downstream fish passage is provided by a bypass facility located adjacent to the left side of the intake structure and powerhouse, and consists of a 3.7-foot-wide log sluice, a 5.1-foot-wide, 5.8-foot-long concrete fish collection box, and a 69.7-foot-long, 18-inch-diameter fiberglass fish passage pipe that discharges into a plunge pool next to the tailrace. Upstream fish passage is provided by a 3-foot-wide Denil fishway located adjacent to the right side of the intake structure and powerhouse.

KEI Power proposes to: (1) Continue operating the project as a ROR facility; (2) install upstream and downstream eel passage facilities; (3) install seasonal trashrack overlays with 0.875 inch diameter holes; (4) modify the discharge location of the existing downstream fish passage pipe to discharge adjacent to the existing upstream fish passage entrance; and (5) develop a fishway operation and management plan.

The average annual generation of the project was approximately 4,144 megawatt-hours from 2016 through 2020.

m. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

n. You may also register online at https://ferconline.ferc.gov/FERCOnline.aspx to be notified via email of new filings and issuances related to this or other pending projects. For assistance, contact FERC Online Support.

o. Scoping Process.

Commission staff will prepare either an environmental assessment (EA) or an Environmental Impact Statement (EIS) that describes and evaluates the probable effects, if any, of the licensee's proposed action and alternatives. The EA or EIS will consider environmental impacts and reasonable alternatives to the proposed action. The Commission's scoping process will help determine the required level of analysis and satisfy the NEPA scoping requirements, irrespective of whether the Commission prepares an EA or an EIS. At this time, we do not anticipate holding on-site scoping meetings. Instead, we are soliciting written comments and suggestions on the preliminary list of issues and alternatives to be addressed in the NEPA document, as described in scoping document 1 (SD1), issued January 27, 2022.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: January 27, 2022.
Kimberly D. Bose,
Secretary.

[FR Doc. 2022-02152 Filed 2-1-22; 8:45 am]

BILLING CODE 6717-01-P